DEPARTMENT OF TRANSPORTATION

Federal Railroad Administration

[Docket Number FRA-1999-6254]

Notice of Petition for Extension and Modification of Waiver of Compliance

AGENCY: Federal Railroad Administration (FRA), Department of Transportation (DOT).

ACTION: Notice.

SUMMARY: This document provides the public notice that the Santa Clara Valley Transportation Authority (SCVTA) petitioned FRA to extend an existing waiver of certain regulations related to a shared use property. SCVTA additionally seeks to modify the existing waiver.

DATES: FRA must receive comments on the petition by August 11, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: John Mardente, Railroad Safety Specialist, FRA Engineering & Technology Division, telephone: 202-493-1335, email: john.mardente@dot.gov.

SUPPLEMENTARY INFORMATION: Under part 211 of title 49 Code of Federal Regulations (CFR), this document provides the public notice that by letter dated April 7, 2025, SCVTA petitioned FRA for an extension of a waiver of compliance from certain provisions of the Federal railroad safety regulations contained at 49 CFR parts 219, 221, 223, 225, 229, 231, 238, and 239. SCVTA seeks additional relief from parts 243 and 270. The relevant Docket Number is FRA-1999-6254.

Specifically, SCVTA seeks to extend the terms and conditions of its existing shared use waiver, requesting the following extended relief: partial relief from part 225 only for employee injuries; and full relief from some parts of multiple regulations (i.e., 49 CFR parts 219, 221, 223, 229, 231, 238, and 239).¹

¹ SCVTA specifically requests FRA's determination whether parts 229 and 231 apply to SCVTA's operation.

In addition, SCVTA requests new relief from parts 243 and 270. In its petition, SCVTA states that its safety-related employees must undergo training and recertification according to the requirements of part 672, Public Transportation Safety Certification Training Program, which duplicate the requirements of part 243. Similarly, SCVTA notes that it complies with the requirements of part 673, Public Transportation Agency Safety Plans, which involves similar information as what is required in part 270.

The relief in this docket supports the continued operation of the SCVTA rail fixed guideway transit system in the Vasona Corridor. SCVTA shares this corridor with the Union Pacific Railroad (UPRR), as they operate in parallel for 5 miles of the existing 15-mile-long UPRR Vasona Industrial Lead; and SCVTA inspects, maintains, and repairs all tracks, signal systems, and automatic warning devices along the subject freight track. In support of its request, SCVTA states that it remains committed to providing safe and reliable public transportation services.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by August 11, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-12939 Filed 7-10-25; 8:45 am]

BILLING CODE 4910-06-P